DEPARTMENT OF ENERGY

Federal Energy Regulatory Commission

[Docket No. OR19-8-000]

TransMontaigne Product Services LLC v. Colonial Pipeline Company; Notice of Complaint

Take notice that on November 16, 2018, pursuant to Rule 206 of the Rules of the Practice and Procedure of the Federal Energy Regulatory Commission (Commission), 18 CFR 385.206 (2018), Part 343 of the Commission's Rules and Regulations, 18 CFR 343.2 (2018), and sections 1(5), 6 and 13 of the Interstate Commerce Act, 49 U.S.C. App. 1(5), 6 and 13, TransMontaigne Product Services LLC (Complainant) filed a formal complaint (complaint) against Colonial Pipeline Company (Respondent) alleging that the Respondent attempted to increase charges related to product volume losses without stating the charges in its tariff, explaining the derivation of such charges, or providing shippers with an opportunity to evaluate and challenge such charges, as more fully explained in the complaint.

The Complainant certifies that copies of the complaint were served on the contacts for the Respondent as listed on the Commission's list of Corporate Officials.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainant.

The Commission encourages electronic submission of protests and interventions in lieu of paper using the “eFiling” link at http://www.ferc.gov. Persons unable to file electronically should submit an original and 5 copies of the protest or intervention to the Federal Energy Regulatory Commission, 888 First Street NE, Washington, DC 20426.

This filing is accessible online at http://www.ferc.gov, using the “eLibrary” link and is available for electronic review in the Commission's Public Reference Room in Washington, DC. There is an “eSubscription” link on the website that enables subscribers to receive email notification when a document is added to a subscribed docket(s). For assistance with any FERC Online service, please email FERCOnlineSupport@ferc.gov or call (866) 208-3676 (toll free). For TTY, call (202) 502-8659.

Comment Date: 5 p.m. Eastern Time on December 6, 2018.

Dated: November 20, 2018.
Kimberly D. Bose,
Secretary.

[FR Doc. 2018-25811 Filed 11-26-18; 8:45 am]

BILLING CODE 6717-01-P